DEPARTMENT OF COMMERCE

National Oceanic and Atmospheric Administration

RIN 0648-XA140

[File No. 15596]

Endangered Species

AGENCY: National Marine Fisheries Service (NMFS), National Oceanic and Atmospheric Administration (NOAA), Commerce.

ACTION: Issuance of permit.

SUMMARY: Notice is hereby given that North Carolina Aquarium at Fort Fisher, North Carolina Department of Environment and Natural Resources, Kure Beach, NC, 28449 [Hap Fatzinger, Responsible Party] has been issued a permit to take shortnose sturgeon (Acipenser brevirostrum) for purposes of enhancement.

ADDRESSES: The permit and related documents are available for review upon written request or by appointment in the following offices:

Permits, Conservation and Education Division, Office of Protected Resources, NMFS, 1315 East-West Highway, Room 13705, Silver Spring, MD 20910; phone (301) 713-2289; fax (301) 713-0376 and;

Southeast Region, NMFS, 263 13th Ave South, St. Petersburg, FL 33701; phone (727) 824-5312; fax (727) 824-5309.

FOR FURTHER INFORMATION CONTACT: Colette Cairns or Jennifer Skidmore, (301) 713-2289.

SUPPLEMENTARY INFORMATION: On October 5, 2010, notice was published in the Federal Register (75 FR 61424) that a request for an enhancement permit to take shortnose sturgeon had been submitted by the North Carolina Aquarium at Fort Fisher. The requested permit has been issued under the authority of the Endangered Species Act of 1973, as amended (ESA; 16 U.S.C. 1531 et seq.) and the regulations governing the taking, importing, and exporting of endangered and threatened species (50 CFR parts 222-226).

The North Carolina Aquarium at Fort Fisher has been issued a permit to continue enhancement activities previously authorized under Permit No. 1273. Activities include the continued maintenance and educational display of five captive-bred, non-releaseable adult shortnose sturgeon. The permit does not authorize any takes from the wild, nor does it authorize any release of captive sturgeon into the wild. The permit is issued for a duration of 5 years.

Issuance of this permit, as required by the ESA, was based on a finding that such permit (1) was applied for in good faith, (2) will not operate to the disadvantage of such endangered or threatened species, and (3) is consistent with the purposes and policies set forth in section 2 of the ESA.

Dated: January 7, 2011.
P. Michael Payne,
Chief, Permits, Conservation and Education Division, Office of Protected Resources, National Marine Fisheries Service.

[FR Doc. 2011-659 Filed 1-12-11; 8:45 am]

BILLING CODE 3510-22-P